DEPARTMENT OF AGRICULTURE

Food and Nutrition Service

Agency Information Collection Activities: Proposed Collection; Comment Request—Evaluation of the Pilot Project for Canned, Frozen, or Dried Fruits and Vegetables in the Fresh Fruit and Vegetable Program (FFVP)

AGENCY: Food and Nutrition Service (FNS), United States Department of Agriculture (USDA).

ACTION: Notice and request for comments.

SUMMARY: In accordance with the Paperwork Reduction Act of 1995, this notice invites the general public and other public agencies to comment on the proposed information collection. This is a new information collection for the Evaluation of the Pilot Project for Canned, Frozen, or Dried Fruits and Vegetables in the Fresh Fruit and Vegetable Program (FFVP).

DATES: Written comments on this notice must be received by May 27, 2014.

ADDRESSES: Comments are invited on: (a) Whether the proposed collection of information is necessary for the proper performance of Agency functions, including whether the information shall have practical utility; (b) the accuracy of the Agency's estimated burden of the proposed information collection, including the validity of the methodology and assumptions that were used; (c) ways to enhance the quality, utility, and clarity of the information to be collected; and (d) ways to minimize the burden of the information collection on respondents, including use of appropriate automated, electronic, mechanical, or other technological methods of data collection.

Written comments may be sent to: Richard Lucas, Acting Director, Office of Policy Support, Food and Nutrition Service, USDA, 3101 Park Center Drive, Room 1014, Alexandria, VA 22302. Comments may also be submitted via fax to the attention of Richard Lucas at 703-305-2576 or via email to richard.lucas@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact Allison Magness, Ph.D., R.D. Social Science Research Analyst, Special Nutrition Evaluation Branch, Office of Policy Support, Food and Nutrition Service, USDA, 3101 Park Center Drive, Room 1014, Alexandria, VA 22302. Comments may also be submitted via fax to the attention of Allison Magness at 703-305-2576 or via email to allison.magness@fns.usda.gov.

SUPPLEMENTARY INFORMATION: Title: Evaluation of the Pilot Project for Canned, Frozen, or Dried Fruits and Vegetables in the Fresh Fruit and Vegetable Program (FFVP).

Form Number: N/A.

OMB Number: 0584NEW.

Expiration Date: Not yet determined.

Type of Request: New collection.

Abstract: The Fresh Fruit and Vegetable Program (FFVP) is intended to improve overall diet quality by teaching children more healthful eating habits. The FFVP began as a pilot project in four states pursuant to provisions of the Farm Security and Rural Investment Act of 2002 (Pub. L. 107-171). Schools selected to participate in the FFVP are reimbursed for providing free fresh fruits and vegetables to students during the school day, outside of normal school breakfast and lunch meals. Under Section 4304 of the Food, Conservation, and Energy Act of 2008 (Pub. L. 110-246), the Richard B. Russell National School Lunch Act (NSLA) was amended to authorize the expansion of the FFVP to selected schools nationwide, including Guam, Puerto Rico, and the Virgin Islands. This was accomplished by incorporating the FFVP into its own section in the NSLA, Section 19, 42 U.S.C. 1770. The Agricultural Act of 2014, Section 4214, instructed the Secretary of Agriculture to carry out a pilot project in schools participating in FFVP in a minimum of five States to evaluate the impact of allowing schools to offer canned, frozen, or dried fruits and vegetables as part of FFVP for School Year 2014-2015. As part of the authorizing legislation, the Secretary was tasked in Section 4214(c) with conducting an evaluation of the pilot. The legislation states:

“1. The impacts on fruit and vegetable consumption at the schools participating in the pilot project;

2. The impacts of the pilot project on school participation in the Program and operation of the Program;

3. The implementation strategies used by the schools participating in the pilot project;

4. The acceptance of the pilot project by key stakeholders; and

5. Such other outcomes as are determined by the Secretary.”

The evaluation of the pilot project has two main objectives: (1) To examine how the pilot project is implemented, and (2) to estimate program impacts on participating students. To address these objectives, FNS has specified the following research categories for the evaluation:

1. Description of participating schools.

2. Description of participating children.

3. Description of the pilot project implementation.

4. Examine impacts of the pilot project on school environment.

5. Examine program impacts on children including consumption of different types of fruits and vegetables, consumption of other foods, nutritional status and attitudes towards fresh fruits and vegetables.

To evaluate program impacts on participating students, data will be collected from approximately 6,144 students in grades 4-6 in 100 public elementary schools in 5 States as well as parents, teachers, school food service managers and principals.

Affected Public: State, Local and Tribal Agency, individuals and households.

Type of Respondents: State Child Nutrition (CN) Directors, Directors of School Food Authorities (SFAs), School Principals, School food service managers, Teachers, Students (grades 4, 5 and 6), and Parents of sampled students.

Estimated Total Number of Respondents: 17,510.

Frequency of Response: State CN Directors will be asked to participate in two web surveys. State CN Directors in the impact sample will be asked to pull administrative twice. SFA Directors and Principals will each participate in one web survey. School food service managers will be interviewed in person two times on sample days for information about foods served in the pilot project and school meals (School Breakfast Program and National School Lunch Program) on those days. Teachers and parents of sampled students will each complete one short questionnaire. Sampled students will all participate in an individual dietary recall which may be assisted by a one-day food diary. A subsample of the students will complete a second dietary recall on a nonconsecutive day, which may be assisted by a one-day food diary.

Estimated Annual Responses: 17,754.

Estimate of Time per Respondent and Annual Burden: About 30 minutes (0.48 hours). The estimated time of response varies from 3 to 65 minutes depending on respondent group, as shown in table below. The total annual burden is 7,933.7 hours.

Affected public | Data collection activity | Respondents | Respondents: Sample size | Respondents: Estimated number of respondents | Respondents: Frequency of response | Respondents: Total annual responses | Respondents: Average burden (hours per response) | Respondents: Sub-total annual burden estimate (hours) | Non-respondents: Estimated number of non- respondents | Non-respondents: Frequency of response | Non-respondents: Total annual responses | Non-respondents: Average burden (hours per response) | Non-respondents: Sub-total annual burden estimate (hours) | Grand total
State, local or tribal agency | Self-Administered Web Survey | State Agency Child Nutrition Directors | 54 | 49 | 2 | 98 | 0.3333 | 32.7 | 5 | 2 | 10 | 0.05 | 0.5 | 33.2
| Self-Administered Web Survey (Admin Data) | State Agency Child Nutrition Directors | 5 | 5 | 2 | 10 | .5 | 5 | 0.0 | 2 | 0.0 | 0.05 | 0 | 5
| Self-Administered Web Survey | School Food Authority (SFA) Directors | 185 | 100 | 1 | 100 | 0.5 | 50 | 85 | 1 | 85 | 0.05 | 4.3 | 54.3
| Self-Administered Web Survey | School Principals | 185 | 100 | 1 | 100 | 0.3333 | 33.3 | 85 | 1 | 85 | 0.05 | 4.3 | 37.6
| In-person Interviews | School Food Service Managers | 185 | 157 | 2 | 314 | 0.1667 | 52.3 | 28 | 2 | 56 | 0.05 | 2.8 | 55.1
| Self-Administered Questionnaire | Teachers | 768 | 691 | 1 | 691 | 0.0833 | 57.6 | 77 | 1 | 77 | 0.05 | 3.9 | 61.5
Individuals and households | Self-Administered Mailed Questionnaire | Parents | 7680 | 6144 | 1 | 6144 | 0.0833 | 511.8 | 1536 | 1 | 1536 | 0.05 | 76.8 | 588.6
| Record-assisted Dietary Recalls | Students | 7680 | 6144 | 1 | 6144 | 1.0833 | 6655.8 | 1536 | 1 | 1536 | 0.05 | 76.8 | 6732.6
| Record-assisted Second Dietary Recall | Students | 768 | 614 | 1 | 614 | 0.5833 | 358.1 | 154 | 1 | 154 | 0.05 | 7.7 | 365.8
Grand Total All Respondents |  |  | 17510 | 14004 | 1.3333 | 14215 | 0.41 | 7756.6 | 3506 | 1.3333 | 3539 | 0.05 | 177.1 | 7933.7

Dated: March 14, 2014.
Audrey Rowe,
Administrator, Food and Nutrition Service.

[FR Doc. 2014-06746 Filed 3-26-14; 8:45 am]

BILLING CODE 3410-30-P